INTERNATIONAL TRADE COMMISSION

[Investigation No. 337-TA-614]

In the Matter of: Certain Wireless Communication Chips and Chipsets, and Products Containing Same, Including Wireless Handsets and Network Interface Cards; Notice of Commission Determination Not To Review an Initial Determination Granting Respondent's Motion To Terminate the Investigation Due to a Pending Arbitration

AGENCY: U.S. International Trade Commission.

ACTION: Notice.

SUMMARY: Notice is hereby given that the U.S. International Trade Commission has determined not to review the presiding administrative law judge's (“ALJ”) initial determination (“ID”) (Order No. 5) granting respondent's motion to terminate the investigation due to a pending arbitration.

FOR FURTHER INFORMATION CONTACT: Clint Gerdine, Esq., Office of the General Counsel, U.S. International Trade Commission, 500 E Street, SW., Washington, DC 20436, telephone (202) 708-2310. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on September 21, 2007, based on a complaint filed by Nokia Inc. of Irving, Texas and Nokia Corporation of Espoo, Finland (collectively “Nokia”). 72 FR 54069. The complaint, as supplemented, alleges violations of section 337 of the Tariff Act of 1930, as amended, 19 U.S.C. 1337, in the importation into the United States, the sale for importation, and the sale within the United States after importation of certain wireless communication chips and chipsets, and products containing same, including wireless handsets and network interface cards, by reason of infringement of certain claims of U.S. Patent Nos. 7,236,761; 6,714,091; 6,292,474; 5,896,562; and 5,752,172. The complaint further alleges the existence of a domestic industry. The Commission's notice of investigation named QUALCOMM, Inc. (“Qualcomm”) of San Diego, California as the respondent.

On October 18, 2007, the ALJ issued an ID (Order No. 5) granting respondent's motion to terminate the investigation due to a pending arbitration. On October 25, 2007, Nokia filed a petition for review of the ALJ's ID. On November 1, 2007, Qualcomm and the Commission investigative attorney filed briefs in opposition to Nokia's petition for review. The Commission has determined not to review the subject ID.

The authority for the Commission's determination is contained in section 337 of the Tariff Act of 1930, as amended (19 U.S.C. 1337), and in sections 210.21(a)(2) and 210.42(h) of the Commission's Rules of Practice and Procedure, 19 CFR 210.21(a)(2), 210.42(h).

By order of the Commission.
Issued: November 21, 2007.
Marilyn R. Abbott,
Secretary to the Commission.

[FR Doc. E7-23220 Filed 11-29-07; 8:45 am]

BILLING CODE 7020-02-P